DEPARTMENT OF COMMERCE

International Trade Administration

[A-570-863]

Honey from the People's Republic of China; Notice of Final Results and Final Rescission, In Part, of Antidumping Duty New Shipper Review.

AGENCY: Import Administration, International Trade Administration, Department of Commerce.

SUMMARY: On June 3, 2004, the U.S. Department of Commerce (the Department) published the preliminary results and partial rescission of the new shipper review of the antidumping order on honey from the People's Republic of China (69 FR 314348). The review covers one producer/exporter, Cheng Du Wai Yuan Bee Products Co., Ltd. (Cheng Du), and exports of the subject merchandise to the United States during the period of review (POR) of December 1, 2002, through May 31, 2003.

We have determined that the other exporter that requested a new shipper review for the same POR, Jinfu Trading Co., Ltd. (Jinfu PRC), failed to demonstrate its entitlement to a new shipper review. Therefore, we are rescinding the new shipper review of Jinfu PRC.

Based on our analysis of the record, including factual information obtained since the preliminary results, and of comments from the interested parties, we have made changes to Cheng Du's margin calculations to adjust the Indian surrogate values used to value the raw honey input, and to adjust our calculation of the financial ratios and their application in our normal value calculation. Therefore, the final results differ from the preliminary results, and we have determined that Cheng Du has made sales at less than normal value. See “Final Results of Review” section below.

EFFECTIVE DATE: November 3, 2004.

FOR FURTHER INFORMATION CONTACT: Angelica Mendoza or Brandon Farlander at (202) 482-3019 or (202) 482-0182, respectively; Antidumping Duty/Countervailing Duty Operations, Office Seven, Import Administration, International Trade Administration, U.S. Department of Commerce, 1401 Constitution Avenue NW, Washington, DC 20230.

SUPPLEMENTARY INFORMATION:

Background

On June 3, 2004, the Department published the preliminary results and partial rescission of this review. See Preliminary Results and Partial Rescission of Antidumping Duty New Shipper Review: Honey from the People's Republic of China, 69 FR 314348 (June 3, 2004) (Preliminary Results). On August 11, 2004, the Department extended the final results of this new shipper review by 60 days until October 25, 2004. See Honey from the People's Republic of China: Extension of Time Limit for Final Results of Antidumping New Shipper Review, 69 FR 51062 (August 17, 2004).

We invited parties to comment on the Preliminary Results. We received case briefs from the American Honey Producers Association and the Sioux Honey Association (collectively, petitioners) and from Jinfu PRC on July 7, 2004. We received rebuttal briefs from Cheng Du on July 12, 2004, and from petitioners on July 16, 2004. Parties did not request a public hearing.

Scope of the Order

The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90, and 2106.90.99 of the Harmonized Tariff Schedule of the United States (HTSUS). Although the HTSUS subheadings are provided for convenience and customs purposes, the written description of the merchandise under review is dispositive.

Analysis of Comments Received

All issues raised in the briefs are addressed in the Issues and Decision Memorandum, which is hereby adopted by this notice. A list of the issues raised, all of which are in the Issues and Decision Memorandum, is attached to this notice as Appendix I. Parties can find a complete discussion of all issues raised in the briefs and the corresponding recommendations in this public memorandum which is on file in the Central Records Unit (CRU), room B-099 of the Herbert H. Hoover Building. In addition, a complete version of the Issues and Decision Memorandum can be accessed directly on the Web at http://ia.ita.doc.gov/frn/index.html. The paper copy and electronic version of the Issues and Decision Memorandum are identical in content.

Changes Since the Preliminary Results

Based on the comments received from the interested parties, we have made changes to the margin calculation for Cheng Du. For the final results, we adjusted the surrogate value used to calculate the cost of the raw honey input in order to more accurately reflect the range of raw honey prices in India during the POR. See the Issues and Decision Memorandum at Comment 4, and the Memorandum to the File Regarding Final Results of New Shipper Review of the Antidumping Duty Order on Honey from the People's Republic of China; Analysis Memorandum (October 25, 2004) (Cheng Du Final Analysis Memo).

We continue to calculate surrogate financial ratios for factory overhead (FOH), selling, general and administrative expenses (SG&A), and profit using the 2002-2003 annual report from the Mahabaleshwar Honey Producers Cooperative (MHPC). However, we adjusted our calculations of the FOH and SG&A ratios. See Issues and Decision Memorandum at Comment 5 and Cheng Du Final Analysis Memo at Attachment 8.

For labor, in the Preliminary Results, we used the PRC regression-based wage rate at Import Administration's home page, Import Library, Expected Wages of Selected NME Countries, revised in September 2002 and corrected in February 2003. In September 2004, the Expected Wages of Selected NME Countries was updated. For these Final Results, we are using the PRC regression-based wage rate in the Expected Wages of Selected NME Countries, revised in September 2004. See Cheng Du Final Analysis Memo at Attachments 3 and 9.

Partial Rescission of New Shipper Review

We are rescinding the new shipper review, with respect to Jinfu PRC, because we have determined that it has not satisfied all required regulatory and certification requirements for a new shipper review. For a full discussion of this issue, see the Issues and Decision Memorandum at Comments 1-3.

In order to qualify for a new shipper review under 19 CFR 351.214 of the Department's regulations, a company must provide certifications and documentation establishing, among other things, the date of the first sale to an unaffiliated customer in the United States. See 19 CFR 351.214(b)(2)(iv)(C) of the Department's regulations. Because Jinfu PRC's certification (which it provided prior to the initiation of the new shipper review) does not include documentation establishing the date of the first sale to an unaffiliated customer in the United States, Jinfu PRC has failed to satisfy the threshold new shipper certification requirements, and is therefore, not entitled to a new shipper review. Therefore, we are rescinding this review with respect to Jinfu PRC. Since Jinfu PRC does not qualify for a separate rate, it is considered part of the non-market-economy (NME) entity, which was subject to the original investigation and, accordingly, will receive the NME/PRC-wide rate of 183.80.

Final Results of New Shipper Review

We determine that the following antidumping margin percentages exist during the period of December 1, 2002, through May 31, 2003:

Manufacturer/Exporter | Weighted-Average Margin (percent)
Cheng Du Wai Yuan Bee Products Co., Ltd. | 22.03
Jinfu Trading Co., Ltd. | 183.80

Assessment of Antidumping Duties

The Department shall determine, and U.S. Customs and Border Protection (CBP) shall assess, antidumping duties on all appropriate entries. In accordance with 19 CFR 351.212(b)(1) of the Department's regulations, we have calculated an exporter/importer specific assessment rate for merchandise subject to this review. The Department will issue appropriate assessment instructions directly to CBP within 15 days of publication of the final results of review. We will direct CBP to assess the resulting assessment rates against the entered customs values for the subject merchandise on each of the importer's/customer's entries during the review period. For assessment purposes for the sale by Jinfu PRC, which we have determined is part of the NME/PRC entity, we are applying the NME/PRC-wide rate of 183.80 percent.

Cash Deposit Requirements

Bonding will no longer be permitted to fulfill security requirements for shipments from Cheng Du and Jinfu PRC of honey from the PRC entered, or withdrawn from warehouse, for consumption in the United States on or after the publication of this notice in the Federal Register. The following cash deposit rates shall be required for merchandise subject to the order entered, or withdrawn from warehouse, for consumption on or after the publication date of these final results for this new shipper review, as provided for by section 751(a)(1) of the Tariff Act of 1930, as amended: (1) The cash deposit rates for Cheng Du (i.e., for subject merchandise both manufactured and exported by Cheng Du only) and Jinfu PRC (i.e., for subject merchandise manufactured by Cixi City Yikang Bee Industry Co., Ltd. (Yikang Bee) and exported by Jinfu PRC) will be the rates indicated above; (2) the cash deposit rate for PRC exporters who received a separate rate in a prior segment of the proceeding will continue to be the rate assigned in that segment of the proceeding; (3) the cash deposit rate for the NME/PRC entity and for subject merchandise exported by Cheng Du and Jinfu PRC but not manufactured by Cheng Du and Yikang Bee, respectively, will continue to be the NME/PRC- wide rate (i.e., 183.80 percent); and (4) the cash deposit rate for non-PRC exporters of subject merchandise from the PRC will be the rate applicable to the PRC exporter/producer that supplied that non-PRC exporter. These deposit requirements shall remain in effect until publication of the final results of the next administrative review. There are no changes to the rates applicable to any other companies under this antidumping duty order.

Notification to Interested Parties

The Department will disclose calculations performed in connection with these final results of review within five days of the date of publication of this notice in accordance with 19 CFR 351.224(b) of its regulations. This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This new shipper review and notice are in accordance with sections 751(a)(2)(B) and 777(i)(1) of the Act.

Dated: October 25, 2004.
Joseph A. Spetrini,
Acting Assistant Secretary for Import Administration.

Appendix I

Issues in the Decision Memorandum

Comment 1: Submission of New Factual Information by Jinfu PRC

Comment 2: Relationship between Jinfu PRC and Jinfu Trading (USA), Inc. (Jinfu USA)

Comment 3: Bona Fides of the Relevant U.S. Sale

Comment 4: Calculation of the Surrogate Value for Raw Honey

Comment 5: Calculation of the Surrogate Financial Ratios

[FR Doc. E4-2996 Filed 11-2-04; 8:45 am]

BILLING CODE 3510-DS-P